DEPARTMENT OF THE TREASURY

Fiscal Service

Surety Companies Acceptable on Federal Bonds—Change In State of Incorporation, Lexington National Insurance Corporation

AGENCY: Bureau of the Fiscal Service, Fiscal Service, Department of the Treasury.

ACTION: Notice.

SUMMARY: This is Supplement No. 7 to the Treasury Department Circular 570, 2015 Revision, published July 1, 2015, at 80 FR 37735.

FOR FURTHER INFORMATION CONTACT: Surety Bond Branch at (202) 874-6850.

SUPPLEMENTARY INFORMATION: Notice is hereby given that LEXINGTON NATIONAL INSURANCE CORPORATION (NAIC #37940) has redomesticated from the state of Maryland to the state of Florida effective January 1, 2015. Federal bond-approving officials should annotate their reference copies of the Treasury Department Circular 570 (“Circular”), 2015 Revision, to reflect this change.

The Circular may be viewed and downloaded through the Internet at www.fiscal.treasury.gov/fsreports/ref/suretyBnd/surety_home.htm.

Questions concerning this notice may be directed to the U.S. Department of the Treasury, Bureau of the Fiscal Service, Funds Management Division, Surety Bond Branch, 3700 East-West Highway, Room 6D22, Hyattsville, MD 20782.

Dated: November 17, 2015.
Kevin McIntyre,
Manager, Financial Accounting and Services Branch, Bureau of the Fiscal Service.

[FR Doc. 2016-01551 Filed 1-25-16; 8:45 am]

BILLING CODE 4810-AS-P